DEPARTMENT OF COMMERCE

National Oceanic and Atmospheric Administration

RIN 0648-XA626

Marine Mammals; File Nos. 16163, 16160, and 15569

AGENCY: National Marine Fisheries Service (NMFS), National Oceanic and Atmospheric Administration (NOAA), Commerce.

ACTION: Notice; receipt of applications.

SUMMARY: Notice is hereby given that the Northwest Fisheries Science Center (NWFSC, Dr. M. Bradley Hanson, Principal Investigator) [File No. 16163], 2725 Montlake Blvd. East, Seattle, WA 98112-2097; The Whale Museum (Jenny Atkinson, Responsible Party) [File No. 16160], PO Box 945, Friday Harbor, WA 98250; and The Center for Whale Research (CWR; Kenneth C. Balcomb III, Responsible Party) [File No. 15569], PO Box 1577, Friday Harbor, WA 98250, have applied in due form for permits to conduct research on marine mammals.

DATES: Written, telefaxed, or email comments must be received on or before December 5, 2011.

ADDRESSES: The applications and related documents are available for review by selecting “Records Open for Public Comment” from the Features box on the Applications and Permits for Protected Species (APPS) home page, https://apps.nmfs.noaa.gov, and then selecting File No. 16163, 16160, 16111, and 15569 from the list of available applications.

These documents are also available upon written request or by appointment in the following offices: See SUPPLEMENTARY INFORMATION.

Written comments on these applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: The following Analysts at (301) 427-8401: Joselyd Garcia-Reyes [for File No. 16160]; Laura Morse [for File No. 16163]; and Jennifer Skidmore [for File Nos. 15569, 16160, 16163].

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Each application is summarized below. For specific take numbers of each species, please refer to the associated application.

File No. 16163: Northwest Fisheries Science Center, requests a permit to conduct scientific research on thirty seven species of cetaceans and unidentified mesoplodon and baleen species in all U.S. and international waters in the Pacific Ocean, including waters of Alaska, Washington, Oregon, California, and Hawaii. Seven of the 37 species to be targeted for research are listed as endangered or have a stock listed as endangered: blue whale (Balaenoptera musculus), fin whale (B. physalus), humpback whale (Megaptera novaeangliae), North Pacific right whale (Eubalaena japonica), sei whale (B. borealis), killer whale (Orcinus orca) Southern Resident stock, and sperm whale (Physeter macrocephalus). The false killer whale (Pseudorca crassidens) Hawaiian insular stock is proposed for listing under the ESA. Seven species of pinnipeds may be incidentally harassed from research activities, including three species listed as endangered: Steller sea lions (Eumetopias jubatus), Guadalupe fur seals (Arctocephalus townsendi), and Hawaiian monk seals (Monachus schauinslandi). The purposes of the proposed research are to study: (1) Abundance, population structure, social organization, fecundity, and mortality; (2) Distribution, seasonal movements, and habitat use; (3) Responses to anthropogenic impacts; (4) Health assessment including contaminant burdens, breath and fecal borne pathogens; and (5) Prey availability including prey selection and energetics. Harassment of all species of cetaceans may occur through vessel approach for sighting surveys, photographic identification, behavioral research, opportunistic sampling (breath, sloughed skin, fecal material, and prey remains), acoustic imaging with echosounders, and aerial surveys. Twenty seven cetacean species and unidentified mesoplodon species would be biopsied, dart, and/or suction-cup tagged. Ultrasound sampling would be directed at killer whales including the Southern Resident stock. Active acoustic playback studies would be directed at Southern Resident killer whales. Import and export of marine mammal prey specimens, sloughed skin, fecal and breath samples obtained is requested for research purposes. Research would occur over a five-year period.

File No. 16160: The Whale Museum requests a five year permit to study marine mammals in the inland waters of Washington State. The purpose of the proposed research is to monitor and record vessel activities around marine mammal species routinely encountered by commercial and recreational vessels. This research would contribute to a long-term data set (Orca Master) that has provided critical information on characterizing annual vessel trends around Southern Resident killer whales and an evaluation of the effectiveness of federal, state and local marine wildlife guidelines and regulations through the Soundwatch program. Research methods would include close vessel approach for photo-identification, behavioral observation, and monitoring. The main focus species are killer whales from the Southern Resident stock. Additionally, Pacific white-sided dolphins (Lagenorhynchus obliquidens), Dall's porpoise (Phocoenoides dalli), harbor porpoise (Phocoena phocoena), eastern gray whale (Eschrichtius robustus), humpback whale, killer whale, and minke whale (B. acutorostrata) may be harassed.

File No. 15569: The Center for Whale Research requests a five-year permit to continue research currently authorized under Permit No. 532-1822-02 with the goal of determining the population size and structure of the ESA-listed Southern Resident killer whales and other ecotypes of killer whales throughout their range in the Eastern North Pacific Ocean. The core area of research will be the inland marine waters of Washington State, but the study area will opportunistically include the wider area of the coastal eastern North Pacific from the southern boundary of California to Alaskan waters east of Kodiak Island, including all territorial waters up to 200 nautical miles offshore. Research methods would primarily involve photo-identification of individuals and behavioral observations, but other benign techniques such as fecal sampling and prey sampling in trail of whales, remote measuring (aerial and laser techniques), and passive acoustic recording will be conducted. Other non-target species that may be opportunistically taken include 17 cetacean species and four pinnipeds species. Those species that are listed as endangered include the blue whale, fin whale, sei whale, humpback whale, and North Pacific right whale, in addition to the threatened eastern stock of Steller sea lions.

A draft environmental assessment (EA) has been prepared in compliance with the National Environmental Policy Act of 1969 (42 U.S.C. 4321 et seq.), to examine whether significant environmental impacts could result from issuance of the proposed scientific research permits. The draft EA is available for review and comment simultaneous with the scientific research permit applications.

Concurrent with the publication of this notice in the Federal Register, NMFS is forwarding copies of the application to the Marine Mammal Commission and its Committee of Scientific Advisors.

Documents May Be Reviewed in the Following Locations

Permits and Conservation Division, Office of Protected Resources, NMFS, 1315 East-West Highway, Room 13705, Silver Spring, MD 20910; phone (301) 713-2289; fax (301) 427-2521;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 973-2935; fax (808) 973-2941.

Dated: October 28, 2011.
Tammy C. Adams,
Acting Chief, Permits and Conservation Division, Office of Protected Resources, National Marine Fisheries Service.

[FR Doc. 2011-28550 Filed 11-2-11; 8:45 am]

BILLING CODE 3510-22-P